DEPARTMENT OF COMMERCE

National Oceanic and Atmospheric Administration

RIN 0648-XI78

New England Fishery Management Council; Public Meeting

AGENCY: National Marine Fisheries Service (NMFS), National Oceanic and Atmospheric Administration (NOAA), Commerce.

ACTION: Notice of a public meeting.

SUMMARY: The New England Fishery Management Council's (Council) Herring Oversight Committee will meet to consider actions affecting New England fisheries in the exclusive economic zone (EEZ).

DATES: The meeting will be held on Wednesday, July 30, 2008, at 9:30 a.m.

ADDRESSES: The meeting will be held at the Holiday Inn By the Bay, 88 Spring Street, Portland, ME 04101; telephone: (207) 775-2311.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. Review and discuss scoping comments received regarding Amendment 4 to the Herring Fishery Management Plan (FMP).

2. Review background information about observer coverage and monitoring/reporting issues (if available).

3. Work on the development of management alternatives for further consideration in Amendment 4 to the Herring FMP; the Committee and Advisory Panel may discuss measures to address monitoring and reporting requirements, observer coverage, shoreside monitoring and sampling, annual catch limits (ACLs) and accountability measures (AMs), measures to address herring bycatch concerns in the Atlantic mackerel fishery, and individual and group quota allocation programs (IFQs and sectors, for example), as well as other measures that were suggested for consideration during the scoping process

4. Develop Committee recommendations for Council consideration in October regarding the specific management measures to be considered further in Amendment 4.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: June 30, 2008.
Tracey L. Thompson,
Acting Director, Office of Sustainable Fisheries, National Marine Fisheries Service.

[FR Doc. E8-15113 Filed 7-2-08; 8:45 am]

BILLING CODE 3510-22-S